ENVIRONMENTAL PROTECTION AGENCY

[FRL-10002-79-OA]

Local Government Advisory Committee (LGAC); Notice of Charter Renewal

AGENCY: Environmental Protection Agency (EPA).

ACTION: Notice.

Notice is hereby given that the Environmental Protection Agency (EPA) has determined that, in accordance with the provisions of the Federal Advisory Committee Act (FACA), 5 U.S.C. App. 2., the Local Government Advisory Committee (LGAC) is in the public interest and is necessary in connection with the performance of EPA's duties. Accordingly, LGAC will be renewed for an additional two-year period. The purpose of LGAC is to provide advice and recommendations to EPA's Administrator on ways to improve its partnership with Local Governments and provide more efficient and effective environmental protection. Inquiries may be directed to Frances Eargle, Designated Federal Officer, LGAC, U.S. EPA, (Mail Code 1301A), 1200 Pennsylvania Avenue NW, Washington, DC 20460, or eargle.frances@epa.gov.

Dated: November 6, 2019.
Jack Bowles,
Director, State and Local Relations, Office of Congressional and Intergovernmental Relations.

[FR Doc. 2019-26467 Filed 12-6-19; 8:45 am]

BILLING CODE 6560-50-P